DEPARTMENT OF THE TREASURY

Alcohol and Tobacco Tax and Trade Bureau

27 CFR Part 4

[Docket No. TTB-2016-0011; Notice No. 165A; Re: Notice No. 165]

RIN 1513-AC24

Proposed Addition of New Grape Variety Names for American Wines; Comment Period Reopening

AGENCY: Alcohol and Tobacco Tax and Trade Bureau, Treasury.

ACTION: Notice of proposed rulemaking; reopening of comment period.

SUMMARY: The Alcohol and Tobacco Tax and Trade Bureau is reopening for an additional 60 days the comment period for Notice No. 165, Proposed Addition of New Grape Variety Names for American Wines, a notice of proposed rulemaking published in the Federal Register on November 17, 2016. TTB is taking this action in response to requests from several wine industry members and trade associations.

DATES: The comment period for the proposed rule published on November 17, 2016 (81 FR 81023) is reopened for 60 days. Written comments on Notice No. 165 are now due on or before December 11, 2017.

ADDRESSES: Please send your comments on Notice No. 165 to one of the following addresses:

• Internet: https://www.regulations.gov (via the online comment form for Notice No. 165 as posted within Docket No. TTB-2016-0011 at Regulations.gov, the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 400, Washington, DC 20005.

See the Public Participation section of Notice No. 165 for specific instructions and requirements for submitting comments, and for information on how to request a public hearing.

You may view copies of this document, Notice No. 165, and any comments made to TTB about the described proposals at https://www.regulations.gov within Docket No. TTB-2016-0011. A link to that docket is posted on the TTB Web site at https://www.ttb.gov/wine/wine-rulemaking.shtml under Notice No. 165. You also may view copies of this document, Notice No. 165, and any comments made to TTB about the described proposals by appointment at the TTB Information Resource Center, 1310 G Street NW., Washington, DC 20005. Please call (202) 453-2270 to make an appointment.

FOR FURTHER INFORMATION CONTACT: Jennifer Berry, Alcohol and Tobacco Tax and Trade Bureau, Regulations and Rulings Division; telephone 202-453-1039, ext. 275.

SUPPLEMENTARY INFORMATION: In Notice No. 165, a notice of proposed rulemaking published in the Federal Register on November 17, 2016 (81 FR 81023), the Alcohol and Tobacco Tax and Trade Bureau (TTB) requested public comment on proposals to amend its wine labeling regulations by adding a number of new names to the list of grape variety names approved for use in designating American wines, removing one existing entry and replacing it with a slightly different name, and correcting the spelling of another existing entry. The proposed amendments would allow wine bottlers to use additional approved grape variety names on wine labels and in wine advertisements. The 60-day comment period for Notice No. 165 originally closed on January 17, 2017.

During the original comment period, TTB received three requests to extend the comment period. The first request came from the National Association of Beverage Importers (NABI), an alcohol beverage industry trade association, and requested a 60-day extension of the comment period for Notice No. 165. In its request, NABI noted that Notice No. 165 was issued during the busy holiday season when many compliance personnel took vacation time, and it noted that the proposed list of 51 new grape variety names includes terms that appear as brand names on various beverage alcohol products. The NABI request stated that its members require additional time “to assure that potential conflicts, confusion, misunderstanding or other issues are brought to the attention of TTB.” The NABI comment is posted as Comment 5 within Docket No. TTB-2016-0011 on the Regulations.gov Web site at https://www.regulations.gov.

The second request was submitted on behalf of the French Federation of Wine and Spirits Exporters (FEVS), and it also requested a 60-day extension of the comment period for Notice No. 165 (see Comment 9). The FEVS comment noted that it was unable to gather enough information to comment on the proposals in Notice No. 165, including the proposed addition of Esprit to the approved list of grape names “due to an extended holiday season.” The comment stated that FEVS required additional time to finalize its research of the COLA database and to bring to TTB's attention any potential conflicts between Esprit as an approved grape name and common terms used in wine brand or fanciful names.

The third request was submitted by the law firm of Dickerson, Peatman and Fogarty on behalf of “certain French wine producers that sell wine into the U.S. under a brand or fanciful name that includes the word “Esprit” (see Comment 18). The comment added that these producers only recently became aware of the proposed addition of Esprit to the list of approved grape names for American wines and are concerned that such action may adversely impact their intellectual property rights and ability to sell their wine in the U.S. The commenter, therefore, requested an extension of the comment period but did not specify a time period.

In response to these requests, TTB is reopening the comment period for Notice No. 165 for an additional 60 days. TTB believes that an additional 60-day comment period will allow all interested parties to fully consider the impact of the new grape varietal names for American wines proposed in Notice No. 165.

Therefore, comments on Notice No. 165 are now due on or before December 11, 2017. Comments on Notice No. 165 may be submitted as described above in the ADDRESSES section of this document.

Drafting Information

Michael Hoover of the Regulations and Rulings Division drafted this document.

Signed: September 28, 2017.
John J. Manfreda,
Administrator.

[FR Doc. 2017-21810 Filed 10-10-17; 8:45 am]

BILLING CODE 4810-31-P